DEPARTMENT OF HOMELAND SECURITY

Coast Guard

33 CFR Part 100

[Docket No. USCG-2015-0092]

Great Steam Boat Race/Kentucky Derby Festival, Louisville, KY

AGENCY: Coast Guard, DHS.

ACTION: Notice of enforcement of regulation.

SUMMARY: The Coast Guard will enforce “the Great Steam Boat Race” safety zone for all waters of the Ohio River, beginning at mile marker 596.8 and ending at 604.3, Louisville, KY. This rule is effective from 6 p.m. to 8 p.m. on April 29, 2015. This action is necessary to protect person, property, and infrastructure from potential damage and safety hazards associated with “the Great Steam Boat Race.” During the enforcement period, deviation from the safety zone is prohibited unless specifically authorized by the Captain of the Port (COTP) Ohio Valley or a designated representative.

DATES: The regulations in 33 CFR 100.801, Table no. 1, Line no. 3 will be enforced from 6 p.m. to 8 p.m. on April 29, 2015.

FOR FURTHER INFORMATION CONTACT: If you have questions on this notice, call or email Petty Officer Stephen F. McConnell, U.S. Coast Guard; telephone 502-779-5334, email Stephen.F.McConnell@uscg.mil.

SUPPLEMENTARY INFORMATION: The Coast Guard will enforce the safety zone for “the Great Steam Boat Race” in 33 CFR 100.801, Table no. 1, Line no. 3 on 04/29/2015 from 6 p.m. to 8 p.m. These regulations can be found in the Code of Federal Regulations at 33 CFR 100.801 or in the Federal Register (77 FR 12460).

Under the provisions of 33 CFR 100, a vessel may not enter the regulated area, unless it receives permission from the COTP Ohio Valley or a designated representative. Additionally, no person or vessel may enter or remain within 200 yards ahead of the lead vessel, within 200 yards astern of the last vessel, or within 200 yards on either side of any vessel. Spectator vessels may safely transit outside the regulated area but may not anchor, block, loiter in, or impede the transit of race participants or official patrol vessels. The Coast Guard may be assisted by other Federal, State, or local law enforcement agencies in enforcing this regulation.

This rule is issued under authority of 33 CFR 100 and 5 U.S.C. 552 (a). In addition to this notice in the Federal Register, the Coast Guard will provide the maritime community with extensive advance notification of this enforcement period via the Local Notice to Mariners (LNM) and Broadcast Notice to Mariners (BNM). If the COTP Ohio Valley determines that the regulated area need not be enforced for the full duration stated in the notice, he or she may use a BNM to grant general permission to enter the regulated area.

Dated: March 27, 2015.
R.V. Timme,
Captain, U.S. Coast Guard, Captain of the Port Ohio Valley.

[FR Doc. 2015-09277 Filed 4-20-15; 8:45 am]

BILLING CODE 9110-04-P